DEPARTMENT OF THE INTERIOR

Bureau of Land Management

[LLCAC00000-L07770900-XZ0000]

Meeting of the Central California Resource Advisory Council Off-Highway Vehicle Subcommittee

ACTION: Notice of public meeting.

SUMMARY: In accordance with the Federal Land Policy and Management Act (FLPMA) and the Federal Advisory Committee Act of 1972 (FACA), the U.S. Department of the Interior, Bureau of Land Management (BLM) Central California Resource Advisory Council Off-Highway Vehicle (OHV) Subcommittee will meet as indicated below.

DATES: The Bureau of Land Management Central California Resource Advisory Council Off-Highway Vehicle Subcommittee will meet April 18, 2009, in the Merced County Board of Supervisors Board Chambers. The room is located on the third floor of the County Administration Building, 23rd and M streets (2222 M Street), Merced, CA. The meeting will run from about from 10 a.m. to noon. Members of the public are welcome to attend the meeting. The subcommittee will conduct organizational business and discuss OHV issues for the subcommittee to address.

FOR FURTHER INFORMATION CONTACT: BLM Central California Public Affairs Officer David Christy, both at (916) 985-4474.

SUPPLEMENTARY INFORMATION: The twelve-member Central California RAC advises the Secretary of the Interior, through the BLM, on a variety of public land issues associated with public land management in the Central California. The RAC approved formation of an OHV Subcommittee in April 2007. The meeting is open to the public. Individuals who plan to attend and need special assistance such as sign language interpretation or other reasonable accommodations should contact the BLM as indicated above.

Dated: March 3, 2009.
David Christy,
Public Affairs Officer.

[FR Doc. E9-5101 Filed 3-10-09; 8:45 am]

BILLING CODE 4310-40-P